NATIONAL COUNCIL ON DISABILITY

Notice of Sunshine Act Meetings

TIME AND DATES: The Members of the National Council on Disability (NCD) will hold a quarterly meeting on Wednesday, June 6, 2012, 9:00 a.m.-12:00 p.m., PST; and on Thursday, June 7, 2012, 9:00 a.m.-5:00 p.m., PST.

PLACE: The meeting will occur in-person at the University of California Los Angeles (UCLA) Faculty Center in the Hacienda, 405 Hilgard Avenue, Los Angeles, CA 90095. Interested parties may join the meeting in person or may join the phone line in a listening-only capacity (with the exception of the public comment period) using the following call-in number: 1-888-428-9506; Passcode: 2078042. If asked, the conference call leader's name is Aaron Bishop.

MATTERS TO BE CONSIDERED: The Council will receive updates from the Council's standing committees and will discuss the topic of subminimum wage. The public comment period will take place from 3:30 p.m.-4:00 p.m., PST. Any individuals interested in providing public comment will be asked to provide their names and their organizational affiliations, if applicable, and to limit their comments to three minutes. Those individuals who plan to provide public comment may also send their comments in writing to Lawrence Carter-Long, Public Affairs Specialist, at lcarterlong@ncd.gov, using the subject line of “Public Comment.”

CONTACT PERSON FOR MORE INFORMATION: Anne Sommers, NCD, 1331 F Street NW., Suite 850, Washington, DC 20004; 202-272-2004 (V), 202-272-2074 (TTY).

ACCOMMODATIONS: Those who plan to attend and require accommodations should notify NCD as soon as possible to allow time to make arrangements.

Dated: May 25, 2012.
Aaron Bishop,
Executive Director.

[FR Doc. 2012-13153 Filed 5-25-12; 11:15 am]

BILLING CODE 6820-MA-P